DEPARTMENT OF DEFENSE

Department of the Army; Corps of Engineers

Closing Upper St. Anthony Falls Lock to Navigation, Located in Minneapolis, MN

AGENCY: Department of the Army, U.S. Army Corps of Engineers, DOD.

ACTION: Notice.

SUMMARY: Section 2010 of the Water Resources Reform and Development Act of 2014 (WRRDA) directed the Secretary of the Army to close the Upper St. Anthony Falls Lock and Dam located on the Mississippi River at river mile 853.9 no later than 1 year after the enactment date of WRRDA 2014. The provision specifically allows the U.S. Army Corps of Engineers to continue to carry out emergency lock operations necessary to mitigate flood damage. The WRRDA was enacted on June 10, 2014. To comply with WRRDA, the Corps will close Upper St. Anthony Falls Lock to navigation by June 10, 2015. The final closure date will be determined, within the statutory deadline, after the environmental analysis required by the National Environmental Policy Act is complete.

DATES: The Draft Environmental Assessment for this lock closure action will be available for public comment through January 23, 2015. The public notice and a link to the Environmental Assessment can be found at: http://www.mvp.usace.army.mil/Home/PublicNotices.aspx.

ADDRESSES: Questions concerning the Draft Environmental Assessment can be addressed to Mr. Elliott Stefanik, U.S. Army Corps of Engineers, 180 Fifth Street East, Suite 700, St. Paul, MN 55101-1678, or by email at elliott.l.stefanik@usace.army.mil.

FOR FURTHER INFORMATION CONTACT: Mr. Jeffrey McKee at Corps of Engineers Headquarters in Washington, DC, by phone at 202-761-8648.

SUPPLEMENTARY INFORMATION: The legal authority for the regulation governing the use, administration, and navigation of the Upper St. Anthony Falls lock is Section 4 of the River and Harbor Act of August 18, 1894 (28 Stat. 362), as amended, which is codified at 33 U.S.C. Section 1. This statute requires the Secretary of the Army to “prescribe such regulations for the use, administration, and navigation of the navigable waters of the United States” as the Secretary determines may be required by public necessity. Reference 33 CFR 207.300, Mississippi River above Cairo, Ill., and their tributaries; use, administration, and navigation.

Brenda S. Bowen,
Army Federal Liaison Officer.

[FR Doc. 2014-29716 Filed 12-18-14; 8:45 am]

BILLING CODE 3720-58-P